DEPARTMENT OF COMMERCE

National Oceanic and Atmospheric Administration

Proposed Information Collection; Comment Request; Web Survey To Collect Economic Data From Anglers in the Gulf of Mexico

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to David W. Carter, Economist, SEFSC, NMFS, 75 Virginia Beach Drive, Miami FL 33149, (305) 361-4467 or david.w.carter@noaa.gov.

SUPPLEMENTARY INFORMATION:

I. Abstract

This request is for a new information collection.

The objective of the short survey will be to understand how anglers respond to changes in trip costs and fishing regulations in the Gulf of Mexico. We are conducting this survey to improve our ability to predict changes the number of fishing trips anticipated with changes in economic conditions or fishing regulations. This will improve the analysis of the economic effects of proposed changes in fishing regulations and changes in economic factors that affect the cost of fishing such as fuel prices.

The population consists of those anglers who fish in the Gulf of Mexico from Florida, including those who possess a license to fish, and those who are not required to have a license (e.g., seniors). We plan to independently sample from the frame designed for the Fishing Effort Survey (FES) of the Marine Recreational Fishing Program (MRIP). Anglers will be mailed a postcard that directs them to a Web site to complete the survey.

II. Method of Collection

The survey will be conducted using two modes: Mail and Internet.

III. Data

OMB Control Number: 0648-xxxx.

Form Number(s): None.

Type of Review: Regular (request for a new information collection).

Affected Public: Business or other for-profit organizations; individuals or households.

Estimated Number of Respondents: 1500.

Estimated Time per Response: 5 minutes.

Estimated Total Annual Burden Hours: 125 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 11, 2017.
Sarah Brabson,
NOAA PRA Clearance Officer.

[FR Doc. 2017-19508 Filed 9-13-17; 8:45 am]

BILLING CODE 3510-22-P